DEPARTMENT OF TRANSPORTATION

Surface Transportation Board

[STB Finance Docket No. 33964]

V and S Railway, Inc.—Acquisition and Operation Exemption—Central Kansas Railway, L.L.C.

V and S Railway, Inc. (V&S), a noncarrier, has filed a verified notice of exemption under 49 CFR 1150.31 to acquire and to operate the Medicine Lodge Subdivision (line) of Central Kansas Railway, L.L.C. The line extends between milepost 0+1016′, in Attica, and the end of the line at milepost 41.0, in Sun City, serving the intermediate points of Sharon, Medicine Lodge, and Lake City, a distance of approximately 41 miles in Harper and Barber Counties, KS.

The transaction was scheduled to be consummated on or after November 28, 2000.

This transaction is related to STB Finance Docket No. 33965, Kern W. Schumacher and Morris H. Kulmer—Continuance in Control Exemption—V and S Railway, Inc., wherein Kern W. Schumacher and Morris H. Kulmer have concurrently filed a verified notice to continue in control of V&S upon its becoming a Class III rail carrier.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33964, must be filed with the Surface Transportation Board, Office of the Secretary, Case Control Unit, 1925 K Street, NW., Washington, DC 20423-0001. In addition, a copy of each pleading must be served on Fritz R. Kahn, Esq., 1920 N Street, NW., 8th Floor, Washington, DC 20036-1601.

Board decisions and notices are available on our website at “WWW.STB.DOT.GOV.”

Decided: November 29, 2000.
By the Board, David M. Konschnik, Director, Office of Proceedings.
Vernon A. Williams,
Secretary.

[FR Doc. 00-30943 Filed 12-6-00; 8:45 am]

BILLING CODE 4915-00-P